ENVIRONMENTAL PROTECTION AGENCY

40 CFR Parts 260 and 261

[EPA-HQ-RCRA-2002-0002; FRL-8743-5]

RIN 2050-AE78

Regulation of Oil-Bearing Hazardous Secondary Materials From the Petroleum Refining Industry Processed in a Gasification System To Produce Synthesis Gas; Notice of Action Denying Petition for Reconsideration

AGENCY: Environmental Protection Agency.

ACTION: Notice of action denying petition for reconsideration.

SUMMARY: The Environmental Protection Agency (EPA or the Agency) is providing notice that it has responded to a petition for reconsideration of the final rule, “Regulation of Oil-Bearing Hazardous Secondary Materials from the Petroleum Refining Industry Processed in a Gasification System to Produce Synthesis Gas”, published at 73 FR 57 (January 2, 2008). The EPA considered the petition along with information contained in the rulemaking docket in reaching a decision on the petition. EPA Assistant Administrator Susan Parker Bodine denied the petition for reconsideration in a letter to the petitioners issued in November 2008. The letter explains EPA's reasons for the denial. Section 7006(a) of the Resource Conservation and Recovery Act (RCRA) states, in pertinent part, that judicial review of the denial of any petition for the amendment or repeal of any regulation under the Act may be filed only in the United States Court of Appeals for the District of Columbia Circuit within 90 days of the denial.

FOR FURTHER INFORMATION CONTACT: Alan Carpien, U.S. Environmental Protection Agency, Office of General Counsel, Mail Code 2366A, 1200 Pennsylvania Ave., NW., Washington, DC 20460; telephone (202) 564-5507; or carpien.alan@epa.gov.

SUPPLEMENTARY INFORMATION:

How Can I Get Copies of This Document and Other Related Information?

This Federal Register notice, the petition for reconsideration and the letter denying the petition for reconsideration are available in a docket EPA has established for this action under Docket ID No. EPA-HQ-RCRA-2008-0808. All documents in the docket are listed on the http://www.regulations.gov Web site. Although listed in the index, some information may not be publicly available, because for example, it may be Confidential Business Information (CBI) or other information, the disclosure of which is restricted by statute. Certain material, such as copyrighted material, is not placed on the Internet and will be publicly available only in hard copy form. Publicly available docket materials are available either electronically through http://www.regulations.gov or in hard copy at the RCRA Docket, EPA/DC, EPA West, Room 3334, 1301 Constitution Avenue, NW., Washington, DC. The Docket Facility is open from 8:30 a.m. to 4:30 p.m., Monday through Friday, excluding legal holidays. The telephone number for the Public Reading Room is (202) 566-1744, and the telephone number for the RCRA Docket is (202) 566-0270. A reasonable fee may be charged for copying docket materials.

Dated: November 14, 2008.
Susan Parker Bodine,
Assistant Administrator, Office of Solid Waste and Emergency Response.

[FR Doc. E8-27759 Filed 11-20-08; 8:45 am]

BILLING CODE 6560-50-P